DEPARTMENT OF TRANSPORTATION

Federal Aviation Administration

[Summary Notice No. PE-2001-38]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petitioner or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC., on May 14, 2001.
Donald P. Byrne,
Assistant Chief Counsel for Regulations.

Disposition of Petitions

Docket No.: 29725.

Petitioner: Federal Express Corporation.

Section 14 CFR Affected: 14 CFR 121.417(c)(2)(i).

Description of Relief Sought/Disposition: To provide FedEx relief from the requirement that each flight crewmember perform hands-on emergency drills and operate certain emergency equipment every 24 months during recurrent training.

Denial, 04/30/2001, Exemption No. 7521.

Docket No.: FAA-2001-9228.

Petitioner: Bridger Aviation Services, Inc.

Section 14 CFR Affected: 14 CFR 135.143(2)(2).

Description of Relief Sought/Disposition: To permit Bridger to operate certain aircraft under part 135 without a TSO-C112 (Mode S) transponder installed in the aircraft.

Grant, 04/26/2001, Exemption No. 7519.

Docket No.: FAA-2001-8745.

Petitioner: Caribou Air Service.

Section 14 CFR Affected: 14 CFR 135.143(c)(2).

Description of Relief Sought/Disposition: To permit Caribou to operate certain aircraft under part 135 without a TSO-C112 (Mode S) transponder installed in the aircraft.

Grant, 04/26/2001, Exemption No. 7518.

Docket No.: FAA-2001-8743.

Petitioner: Beaver Air Taxi, LLC.

Section of 14 CFR Affected: 14 CFR 135.143(c)(2).

Description of Relief Sought/Disposition: To permit Beaver Air to operate certain aircraft under part 135 without a TSO-C112 (Mode S) transponder installed in the aircraft.

Grant, 04/26/2001, Exemption No. 7517.

Docket No.: FAA-2001-9043.

Petitioner: Horizon Air Industries, Inc.

Section of 14 CFR Affected: 14 CFR 121.344(a)(14), (a)(29), (a)(33), (a)(40), (a)(44), and (a)(54).

Description of Relief Sought/Disposition: To permit Horizon and all similarly situated air carriers to operate the Bombardier CL-600-2C10 airplane without recording the parameters listed in § 121.344(a)(14), (a)(29), (a)(33), (a)(40), (a)(44), and (a)(54) within the ranges, accuracies, resolutions, and recording intervals specified in appendix M to part 121.

Denial, 04/27/2001, Exemption No. 7520.

Docket No.: 28855.

Petitioner: Offshore Logistics, Inc.

Section of 14 CFR Affected: 14 CFR 135.152(a).

Description of Relief Sought/Disposition: To amend Exemption No. 6714, as amended, which permits Offshore to operate certain helicopters under part 135 without an approved digital flight data recorder installed on each helicopter. By (1) changing the name of the exemption holder from Offshore Logistics, Inc., to Air Logistics, L.L.C., and (2) updating the list of helicopters covered by the exemption.

Grant, 05/04/2001, Exemption No. 6714C.

Docket No.: FAA-2001-8738.

Petitioner: DHL Airways, Inc.

Section of 14 CFR Affected: 14 CFR 121.344(b)(3).

Description of Relief Sought/Disposition: To allow DHL to operate two Airbus 300B4-200 series airplanes (Registration Nos. N367DH and N366DH) without installing in each the airplane the required digital flight data recorder.

Grant, 05/04/2001, Exemption No. 7522.

Docket No.: FAA-2000-8423.

Petitioner: Alaska Flying Network.

Section of 14 CFR Affected: 14 CFR 135.251, 135.255, 135.353, and appendixes I and J of part 121.

Description of Relief Sought/Disposition: To permit AFN to conduct no more than four local sightseeing flights at an airport in the vicinity of Kenai, AK, as part of a raffle to raise funds for local charities, at a date and time to be determined by you and recipient(s) of the flight, for compensation or hire, without complying with certain anti-drug and alcohol misuse prevention requirements of part 135.

Grant, 04/27/2001, Exemption No. 7274A.

[FR Doc. 01-12488 Filed 5-16-01; 8:45 am]

BILLING CODE 4910-13-M